DEPARTMENT OF THE INTERIOR

Fish and Wildlife Service

Receipt of an Application for an Incidental Take Permit for the Joshua Tree Recreational Campground Low-Effect Habitat Conservation Plan, San Bernardino County, CA

AGENCY: Fish and Wildlife Service, Interior.

ACTION: Notice of availability.

SUMMARY: JAT Associates, Inc. (Applicant) has applied to the U.S. Fish and Wildlife Service (Service or “we”) for an incidental take permit pursuant to section 10(a)(1)(B) of the Endangered Species Act of 1973, as amended (Act). We are considering issuing a 30-year permit to the Applicant that would authorize take of the federally threatened desert tortoise (Gopherus agassizii) incidental to otherwise lawful activities associated with the construction and operation of the Joshua Tree Recreational Campground on 13.8 acres of their 314.6-acre property.

We are requesting comments on the permit application and on our preliminary determination that the proposed Habitat Conservation Plan (HCP) qualifies as a “low effect” HCP, eligible for a categorical exclusion under the National Environmental Policy Act (NEPA) of 1969, as amended. We explain the basis for this possible determination in a draft Environmental Action Statement (EAS) and associated Low Effect Screening Form. The Applicant's Low Effect HCP describes the mitigation and minimization measures they would implement, as required in Section 10(a)(2)(B) of the Act, to address the effects of the project on the desert tortoise. These measures are outlined in the SUPPLEMENTARY INFORMATION section below. The draft HCP and EAS are available for public review.

DATES: Written comments should be received on or before August 23, 2006.

ADDRESSES: Please address written comments to Diane Noda, Field Supervisor, Ventura Fish and Wildlife Office, U.S. Fish and Wildlife Service, 2493 Portola Road, Suite B, Ventura, California 93003. You may also send comments by facsimile to (805) 644-3958. To obtain copies of draft documents, see “Availability of Documents” under SUPPLEMENTARY INFORMATION.

FOR FURTHER INFORMATION CONTACT: Jen Lechuga, HCP Coordinator, (see ADDRESSES) telephone: (805) 644-1766 extension 224.

SUPPLEMENTARY INFORMATION:

Availability of Documents

You may obtain copies of the application, HCP, and EAS by contacting the HCP Coordinator (see FOR FURTHER INFORMATION CONTACT). Copies of the draft documents are also available for public inspection and review at the following locations: (1) U.S. Fish and Wildlife Service, Ventura Fish and Wildlife Office, 2493 Portola Road, Suite B, Ventura, California 93003; (2) Joshua Tree Public Library, 6465 Park Blvd., Joshua Tree, California 92252; and (3) Ventura Fish and Wildlife Office Internet site: http://www.fws.gov/ventura.

Background

Section 9 of the Act and Federal regulations prohibit the “take” of fish or wildlife species listed as endangered or threatened, respectively. Take of listed fish or wildlife is defined under the Act to mean to harass, harm, pursue, hunt, shoot, wound, kill, trap, capture, or collect, or to attempt to engage in any such conduct. However, the Service, under limited circumstances, may issue permits to cover incidental take, i.e., take that is incidental to, and not the purpose of, the carrying out of an otherwise lawful activity. Regulations governing incidental take permits for threatened and endangered species are found at 50 CFR 17.32 and 17.22, respectively. Among other criteria, issuance of such permits must not jeopardize the existence of federally listed fish, wildlife, or plants.

The proposed Joshua Tree Recreational Campground project is located in the unincorporated community of Joshua Tree, San Bernardino County, California. The Applicant proposes to construct, operate, and maintain campground facilities on 13.8 acres. Proposed construction on the 13.8 acres includes 22 camp sites, a fitness center, a reception/restaurant building, multiple salt water pools, massage treatment rooms, a horse stable, roads, and trails. Construction would be completed in two phases. Phase I would comprise approximately 62 percent of the total project area. The campground would be in operation for 3 to 5 years before Phase II construction begins. Construction of the two phases is expected to take 10 years.

The Applicant proposes to implement measures to minimize and mitigate for take of the desert tortoise within the project site. The Applicant has designed the project such that the footprint of the roads and structures are located where few desert tortoise signs were observed. For mitigation, they will restore and manage at a 1:1 ratio 13.8 acres of desert tortoise habitat on their 314.6-acre property. The Applicant also proposes to: (1) Halt destructive activities to desert tortoises and their habitat presently taking place on the site; (2) raise awareness of the desert tortoise for construction personnel, staff, and guests; (3) post signs and establish speed limits; (4) construct a desert tortoise-exclusion fence along the access road; (5) reduce the presence of desert tortoise predators; and (6) undertake various other measures to minimize impacts.

The impacts from construction and operation activities associated with the Joshua Tree Campground are considered to be negligible to the species as a whole because: (1) The amount of habitat being disturbed is small relative to the amount of habitat available within the Joshua Tree area, the West Mojave Recovery Unit, and within the wide range of the species as a whole; (2) most of the areas that will be disturbed during construction and operation of buildings on the site are of poor quality and probably support few if any desert tortoises due to ongoing illegal shooting, dumping, and off highway vehicular (OHV) use; (3) disturbance associated with construction of roads on the site is associated with habitat that has also been impacted, to a lesser extent by illegal dumping, shooting, and OHV use; (4) the construction of this park will not serve to fragment desert tortoise populations in the Joshua Tree, California, area; and (5) one of the most likely forms of take is capture to move desert tortoises out of harm's way, resulting in temporary low impacts.

The Service's proposed action is to issue an incidental take permit to the Applicant, who would then implement the HCP. Two alternatives to the taking of listed species under the proposed action are considered in the HCP. Under the No-Action alternative, the proposed project would not occur and the HCP would not be implemented. This would avoid the immediate effects of habitat removal on the desert tortoise. However, without the HCP, habitat for the desert tortoise on the project site likely would continue to decline as a result of current shooting, dumping, and recreational OHV activities occurring on the site. Further, this alternative would not meet the Applicant's project goals or protect 13.8 acres of habitat for the benefit of the desert tortoise.

The Applicant's Alternate Site Alternative considered moving the project to an alternate location within the 314.6-acre property. This alternative entailed a more spread-out development with 11 additional campsites and 2 additional buildings in the southeastern region of the property. This location overlapped with the area most used by tortoises. The alternative was rejected because it would likely result in greater impacts to the desert tortoise and its habitat. In addition, the Applicant can achieve the project goals in the southwestern area of the property where there is less presence of desert tortoises.

The Service has made a preliminary determination that the HCP qualifies as a “low-effect” plan as defined by our Habitat Conservation Planning Handbook (November 1996). Our determination that an HCP qualifies as a low-effect plan is based on the following criteria: (1) Implementation of the plan would result in minor or negligible effects on federally listed, proposed, and candidate species and their habitats; (2) implementation of the plan would result in minor or negligible effects on other environmental values or resources; and (3) impacts of the plan, considered together with the impacts of other past, present, and reasonably foreseeable similarly situated projects would not result, over time, in cumulative effects to the environmental values or resources that would be considered significant. As more fully explained in our EAS and associated Low Effect Screening Form, the Applicant's proposal to build and operate the Joshua Tree Recreational Campground qualifies as a “low effect” plan for the following reasons:

(1) Approval of the HCP would result in minor or negligible effects on the desert tortoise and its habitat. The Service does not anticipate significant direct or cumulative effects to the desert tortoise resulting from the proposed development and operation of the project site.

(2) Approval of the HCP would not have adverse effects on unique geographic, historic, or cultural sites, or involve unique or unknown environmental risks.

(3) Approval of the HCP would not result in any cumulative or growth-inducing impacts and would not result in significant adverse effects on public health or safety.

(4) The project does not require compliance with Executive Order 11988 (Floodplain Management), Executive Order 11990 (Protection of Wetlands), or the Fish and Wildlife Coordination Act, nor does it threaten to violate a Federal, State, local or tribal law or requirement imposed for the protection of the environment.

(5) Approval of the HCP would not establish a precedent for future actions or represent a decision in principle about future actions with potentially significant environmental effects.

The Service therefore has made a preliminary determination that approval of the HCP qualifies as a categorical exclusion under the National Environmental Policy Act, as provided by the Department of the Interior Manual (516 DM 2, Appendix 1 and 516 DM 6, Appendix 1). Based upon this preliminary determination, we do not intend to prepare further National Environmental Policy Act documentation. The Service will consider public comments in making its final determination on whether to prepare such additional documentation.

We will evaluate the permit application, the HCP, and comments submitted thereon to determine whether the application meets the requirements of section 10(a) of the Act. If the requirements are met, the Service will issue a permit to the Applicant.

Public Review and Comment

If you wish to comment on the permit application, draft Environmental Action Statement or the proposed HCP, you may submit your comments to the address listed in the ADDRESSES section of this document. Our practice is to make comments, including names, home addresses, etc., of respondents available for public review. Individual respondents may request that we withhold their names and/or home addresses, etc., but if you wish us to consider withholding this information you must state this prominently at the beginning of your comments. In addition, you must provide a rationale demonstrating and documenting that disclosure would constitute a clearly unwarranted invasion of privacy. In the absence of exceptional, documented circumstances, this information will be released. All submissions from organizations or businesses, and from individuals identifying themselves as representatives or officials of organizations or businesses, are available for public inspection in their entirety.

The Service provides this notice pursuant to section 10(c) of the Act and pursuant to implementing regulations for NEPA (40 CFR 1506.6).

Dated: July 18, 2006.
Diane K. Noda,
Field Supervisor, Ventura Fish and Wildlife Office, Ventura, California.

[FR Doc. E6-11718 Filed 7-21-06; 8:45 am]

BILLING CODE 4310-55-P